DEPARTMENT OF HEALTH AND HUMAN SERVICES

Food and Drug Administration

21 CFR Part 172

[Docket No. FDA-2017-F-3717]

Juice Products Association; Filing of Food Additive Petition; Correction

AGENCY: Food and Drug Administration, HHS.

ACTION: Notification; petition for rulemaking; correction.

SUMMARY: The Food and Drug Administration (FDA or we) is correcting a notice that appeared in the Federal Register of Wednesday, July 26, 2017 (82 FR 34615). The document announced that we have filed a petition, submitted by the Juice Products Association, proposing that the food additive regulations be amended to replace the current Recommended Daily Intake (RDI) percentage values of calcium in fruit juices and fruit juice drinks in the regulation for vitamin D3 with absolute values and to update the specifications for vitamin D3. The document was published with incorrect information on the absolute level of added calcium for fruit juice drinks that are fortified with calcium. This document corrects that error.

DATES: This document is publishing in the Federal Register on August 22, 2017.

FOR FURTHER INFORMATION CONTACT: Judith Kidwell, Center for Food Safety and Applied Nutrition, Food and Drug Administration, 5001 Campus Dr., College Park, MD 20740, 240-402-1071.

SUPPLEMENTARY INFORMATION: In the Federal Register of July 26, 2017, in FR Doc. 2017-15535, on page 34615, the following correction is made:

On page 34615, in the second paragraph under the SUPPLEMENTARY INFORMATION: caption, in the second column, the second paragraph is corrected to read, “These proposed changes would allow manufacturers of fruit juices and fruit juice drinks that are fortified with calcium to maintain the absolute level of added calcium at 330 milligrams (mg) and 100 mg, respectively, as established in our regulations at § 172.380(c)(1) and (2).”

Dated: August 17, 2017.
Leslie Kux,
Associate Commissioner for Policy.

[FR Doc. 2017-17704 Filed 8-21-17; 8:45 am]

BILLING CODE 4164-01-P